DEPARTMENT OF LABOR

Employment and Training Administration

[TA-W-62,404]

Motor Wheel Commercial Vehicle Systems, Full Cast/Assembly Area, Berea, KY; Notice of Affirmative Determination Regarding Application for Reconsideration

On January 8, 2008, the Department of Labor (Department) received a request for administrative reconsideration of the Department's Notice of Negative Determination regarding workers' eligibility to apply for Alternative Trade Adjustment Assistance (ATAA) applicable to workers and former workers of the subject firm. The determination was issued on November 30, 2007. The Department's Notice of Determination Regarding ATAA was published in the Federal Register on December 11, 2007 (72 FR 70346).

The negative determination was based on the Department's findings that the workers in the workers' firm possess skills that are easily transferable.

In the request for reconsideration, a worker alleged that “salaries at other factories in similar jobs are much lower” than wages paid by the subject firm.

The Department has carefully reviewed the request for reconsideration and has determined that the Department will conduct further investigation.

Conclusion

After careful review of the application, I conclude that the claim is of sufficient weight to justify reconsideration of the U.S. Department of Labor's prior decision. The application is, therefore, granted.

Signed at Washington, DC, this 30th day of January 2008.
Elliott S. Kushner,
Certifying Officer, Division of Trade Adjustment Assistance.

[FR Doc. E8-2240 Filed 2-6-08; 8:45 am]

BILLING CODE 4510-FN-P